DEPARTMENT OF COMMERCE

Foreign-Trade Zones Board

[B-12-2014]

Foreign-Trade Zone 57—Charlotte, North Carolina; Application for Reorganization/Expansion Under Alternative Site Framework

An application has been submitted to the Foreign-Trade Zones (FTZ) Board by the Charlotte Regional Partnership, Inc., grantee of FTZ 57, requesting authority to reorganize and expand the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on February 7, 2014.

FTZ 57 was approved by the Board on April 28, 1980 (Board Order 156, 45 FR 30466, 5/8/80) and expanded on September 23, 1982 (Board Order 199, 47 FR 43103, 9/30/82), on July 29, 2002 (Board Order 1240, 67 FR 51535, 8/8/02), on February 9, 2005 (Board Order 1369, 70 FR 9613, 2/28/05), and on August 5, 2009 (Board Order 1641, 74 FR 41374, 8/17/09). On April 24, 2009, the grant of authority was reissued to the Charlotte Regional Partnership, Inc. (Board Order 1613, 74 FR 21622-21623, 5/8/09).

The current zone includes the following sites: Site 1 (2.3 acres)—distribution facility, 11425 Granite Street, Charlotte; Site 1a (23.186 acres)—distribution facility, 1411 & 1701 Continental Blvd., Charlotte; Site 2 (3.15 acres)—distribution facility, 14620 Carowinds Blvd., Charlotte; Site 3 (26 acres)—International Airport Center, 3401 International Blvd., Charlotte; Site 7 (2 parcels, 619 acres)—Parcel 1 (576 acres)—Hickory Regional Airport, Clement Blvd., Hickory; and, Parcel 2 (43 acres)—distribution facility, 543 12th Street Drive NW., Hickory; and, Site 16 (351 acres, sunset 8/31/2014)—Monroe Corporate Center, Airport Road & Goldmine Road, Monroe. (Note: Sites 4, 5, 6, 8, 9, 10, 11, 12, 13, 14 and 15 have expired.)

The grantee's proposed service area under the ASF would include the Counties of Alexander, Anson, Caldwell, Cabarrus, Catawba, Cleveland, Gaston, Iredell, Lincoln, Mecklenburg, Polk, Rowan, Rutherford, Stanly and Union, as described in the application. If approved, the grantee would be able to serve sites throughout the service area based on companies' needs for FTZ designation. The proposed service area is within and adjacent to the Charlotte Customs and Border Protection port of entry.

The applicant is requesting authority to reorganize and expand its existing zone under the ASF as follows: (1) Combine existing Sites 1 and 1a to become Site 1 and expand the site to include an additional 2.769 acres (new site total—28.255 acres); (2) Remove existing Site 2 and Site 3 due to changed circumstances; and, (3) Modify Site 7 by removing Parcel 1 (576 acres) (new site total—43 acres). Site 16 would become a magnet site and modified Sites 1 and 7 would become usage-driven sites. The applicant is also requesting a new magnet site: Proposed Site 17 (3,900 acres) at the Charlotte Douglas International Airport, 5501 Josh Birmingham Parkway, Charlotte. The ASF allows for the possible exemption of one magnet site from the “sunset” time limits that generally apply to sites under the ASF, and the applicant proposes that Site 17 be so exempted. The application would have no impact on FTZ 57's previously authorized subzones.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is April 14, 2014. Rebuttal comments in response to material submitted during the foregoing period may be submitted during the subsequent 15-day period to April 28, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Kathleen Boyce at Kathleen.Boyce@trade.gov or (202) 482-1346.

Dated: February 7, 2014.
Andrew McGilvray,
Executive Secretary.

[FR Doc. 2014-03067 Filed 2-11-14; 8:45 am]

BILLING CODE 3510-DS-P